DEPARTMENT OF TRANSPORTATION

Federal Aviation Administration

Notice of Intent To Prepare an Environmental Impact Statement (EIS) and Initiate Section 106 Consultation for the Proposed LaGuardia Access Improvement Project at LaGuardia Airport (LGA), New York City, Queens County, New York

AGENCY: Federal Aviation Administration (FAA), DOT.

ACTION: Notice of Intent to Prepare an Environmental Impact Statement and Request for Scoping Comments.

SUMMARY: The Federal Aviation Administration (FAA) is issuing this notice under the provisions of the National Environmental Policy Act (NEPA) of 1969, as amended, to advise the public that an Environmental Impact Statement (EIS) will be prepared to assess the potential impacts of the proposed LaGuardia Airport Access Improvement Project and its enabling projects and connected actions (the proposed action). The Port Authority of New York and New Jersey (Port Authority) proposes to construct an elevated automated people mover (APM) that would provide direct access between LGA and two existing transit stations at Mets-Willets Point. Currently, LGA is accessible only by road. Passengers and employees face increasing and unreliable travel times and traffic congestion on off-Airport roadways. The project will provide air passengers and employees with a time-certain option for access to LGA and permit the Port Authority to provide adequate employee parking for the geographically constrained airport. Two (2) public scoping meetings and one (1) governmental agency scoping meeting will be held to identify public and agency concerns related to the proposed action. FAA is the lead agency on the preparation of the EIS.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: The purpose of this notice is to inform federal, state, and local government agencies and the public of the intent to prepare an EIS and to conduct a public and agency scoping process. Information, data, opinions, and substantive comments obtained throughout the scoping process will be considered in preparing the EIS.

The scoping process for this EIS will include scoping meetings and a comment period for interested agencies and members of the public to submit oral and/or written comments with respect to any potential environmental impacts associated with the proposed project, or comments representing the concerns, issues, and alternatives they believe should be addressed in the EIS. Please submit any written comments to the FAA no later than 5:00 p.m. Eastern Time, Monday, June 17, 2019.

The EIS will be prepared in accordance with the procedures described in FAA Order 1050.1F, Environmental Impacts: Policies and Procedures, and FAA Order 5050.4B, National Environmental Policy Act (NEPA) Implementing Instructions for Airport Actions. Additionally, pursuant to Executive Order 13807, Establishing Discipline and Accountability in the Environmental and Permitting Process for Infrastructure, this EIS will be used by all federal approving and permitting agencies. Accordingly, it will comply with any requirements of these cooperating and participating agencies. The FAA and cooperating and participating agencies intend to use the preparation of this EIS to comply with the concurrent statutory review process under Section 106 of the National Historic Preservation Act (NHPA), as amended, and its implementing regulations, Protection of Historic Properties (36 CFR part 800); Section 7 of the Endangered Species Act; the Magnuson-Stevens Fishery Conservation and Management Act; and Section 404 of the Clean Water Act. This Notice of Intent also serves to notify the public that this EIS process will satisfy the public notice and comment requirements of Section 106 of the NHPA, Section 4(f) of the Department of Transportation (DOT) Act, DOT Order 5610.2(a), Environmental Justice in Minority and Low-Income Populations; Executive Order 11990, Protection of Wetlands; DOT Order 5660.1A, Preservation of the Nation's Wetlands; Executive Order 11988, Floodplain Management; and DOT Order 5650.2, Floodplain Management and Protection.

The Port Authority, the operator of LGA, proposes the following project components of the proposed action:

• Construction of an above ground fixed guideway automated people mover (APM) system approximately 2.3 miles in length that extends from the LGA Central Hall Building to the Metropolitan Transit Authority (MTA) Long Island Rail Road (LIRR) Mets-Willets Point Station and the New York City Transit (NYCT) 7 Line Mets-Willets Point Station;

• construction of two on-Airport APM stations; construction of one off-Airport APM station at Mets-Willets Point that provides connections to the Mets-Willets Point LIRR and NYCT 7 Line stations;

• construction of passenger walkway systems to connect the APM stations to the passenger terminals, parking garages, and ground transportation facilities;

• construction of a multi-level APM operations, maintenance, and storage facility (OMSF) that includes 500 Airport employee parking spaces;

• construction of three traction power substations: one located at the on-airport East Station, another at Willets Point Station, and the third at the OMSF to provide power to the APM guideway;

• construction of a 27kV main substation located adjacent to the OMSF structure on MTA property; and

• construction of utilities infrastructure, both new and modified, as needed, to support the proposed action.

The proposed action also includes various enabling projects to allow construction and connected actions, including: Utility relocation and demolition of certain existing facilities; reconstruction and/or relocation of the Passerelle Bridge; modifications to the MTA LIRR Mets-Willets Point Station, including service changes to the LIRR Port Washington Line; and the relocation of several Flushing Bay Marina facilities, including a boat lift, Marina office, and boat storage.

The FAA is required to consider a range of alternatives that could potentially meet the purpose and need to provide a time-certain transportation option that connects passengers and employees to LGA. As part of the information submittal process, the Port Authority supplied an initial list of alternatives that they had considered. These alternatives are included below. After considering the public input from the scoping process, the FAA will identify a list of reasonable alternatives that will be evaluated through the EIS process.

Alternative One—Sponsor's Proposed Action: As previously described.

Alternative Two—Use of Other Existing Airports: Transfer or shifting of aviation activity to another existing public airport (or airports) in the New York metropolitan area.

Alternative Three—Use of Other Modes of Transportation: Use of other modes of transportation, including automobiles, buses, ferry service, existing passenger trains, proposed high-speed rail facilities or other emerging transportation technologies.

Alternative Four—Transportation Demand Management: Use of measures to reduce vehicular travel to and from the Airport.

Alternative Five—Off-Airport Roadway Expansion: Increase the capacity of roadways surrounding and providing access to the Airport, potentially including I-495, the Brooklyn-Queens Expressway (BQE), the Grand Central Parkway, Queens Boulevard, and/or Astoria Boulevard.

Alternative Six—Subway Extension from Astoria Boulevard Subway Station: Elevated Above Grand Central Parkway: Construction of an elevated subway structure that would extend service of the NYCT N and W Lines eastward from the existing Astoria Boulevard Subway Station to a new station at the Airport; the alignment would be along Grand Central Parkway.

Alternative Seven—Subway Extension from Astoria-Ditmars Boulevard Subway Station: Elevated Above 19th Avenue: Construction of an elevated subway structure that would extend service of the NYCT N and W Lines eastward from the existing Astoria-Ditmars Boulevard Subway Station to a new station at the Airport; the alignment would generally be along 31st Street north, 19th Avenue east, and Grand Central Parkway east.

Alternative Eight—Subway Extension from Astoria-Ditmars Boulevard Subway Station: Tunnel Beneath 19th Avenue: Construction of an underground subway structure that would extend service of the NYCT N and W Lines eastward from the existing Astoria-Ditmars Boulevard Subway Station to a new station at the Airport; the alignment generally would be in a tunnel beneath 31st Street north, 19th Avenue east, and Grand Central Parkway east.

Alternative Nine—Fixed Guideway from Astoria Boulevard Subway Station: Construction of a fixed guideway APM system that would provide service from the existing Astoria Boulevard Subway Station to a new station at the Airport; the alignment generally would be along Grand Central Parkway east.

Alternative Ten—Fixed Guideway from Woodside LIRR and 61st Street-Woodside Subway Station: Construction of a fixed guideway APM system that would provide service from the existing LIRR Woodside Station and the NYCT 7 Line at the 61st Street/Woodside Subway Station to a new station at the Airport; the alignment generally would be along the existing railroad right-of-way north and then parallel the BQE north to the Grand Central Parkway east.

Alternative Eleven—Fixed Guideway from Roosevelt Avenue-Jackson Heights Subway Station: Construction of a fixed guideway APM system that would provide service from the existing NYCT 7, E, F, M, and R Lines at Roosevelt Avenue/Jackson Heights Subway Station to a new station at the Airport; the alignment generally would be along Broadway northwest to the BQE and then parallel the BQE north to the Grand Central Parkway east.

Alternative Twelve—Fixed Guideway from Jamaica Station Transportation Hub: Construction of a fixed guideway APM system that would provide service from the existing NYCT E, J, and Z Lines at Jamaica Station transportation hub to a new station at the Airport; the alignment generally would be along city streets to the Van Wyck Expressway and would continue northwesterly along the Van Wyck Expressway and Grand Central Parkway.

Alternative Thirteen—No Action Alternative: Under this alternative, the Port Authority would take no action to develop an APM system or other alternative form of transportation to and from the Airport.

Public Scoping and Governmental Agency Meetings: To ensure that the full range of issues related to the proposed action is addressed and that all significant issues are identified, comments and suggestions are invited from all interested parties. Public and governmental agency scoping meetings will be conducted to identify any significant issues associated with the proposed action.

A governmental agency scoping meeting for all federal, state, and local regulatory agencies that have jurisdiction by law or have special expertise with respect to any potential environmental impacts associated with the proposed action will be held on Wednesday, June 5, 2019. This meeting will take place at 10:00am Eastern Time, at the Port Authority of New York and New Jersey Office at 4 World Trade Center, 23rd Floor, New York, New York. A notification letter will be sent in advance of the meeting.

Two public scoping meetings for the general public will be held. The public scoping meetings will be held from 6:30 p.m. to 8:30 p.m. Eastern Time on Wednesday, June 5, 2019 and from 6:30 p.m. to 8:30 p.m. Eastern Time on Thursday, June 6, 2019. The public scoping meetings will be conducted at the New York LaGuardia Airport Marriott Hotel at 102-05 Ditmars Boulevard, East Elmhurst, New York. A legal notice will also be placed in newspapers having general circulation in the study area. The newspaper notice will notify the public that scoping meetings will be held to gain their input concerning the alternatives to be considered and environmental impacts to be evaluated, with comments on the environmental impacts being used to help formulate the scope of analysis for the EIS. The Public Scoping Meetings will be open house format with project information displayed and representatives from the FAA and the Port Authority available to answer questions. Sign and oral interpretation can be made available at the meeting, as well as an assistive listening device, if requested 10 calendar days before the meeting. The meetings will be open to all persons on a space-available basis. There will be no admission fee or other charge, including parking, to attend and participate. Written and oral comments will be accepted at each of the meetings. The public comment period on the Scoping phase of the EIS will end on June 17, 2019.

The purpose of the Scoping Process, as stated above, is to receive input from the public, as well as from Federal, state, and local agencies that have legal jurisdiction and/or special expertise, with respect to any potential environmental impacts associated with the proposed project, as well as concerns, issues, and alternatives they believe should be addressed in the EIS. During this process, questions regarding the scope and process related to the EIS will be answered. More information about the sponsor's proposed project and the scoping meetings can be found at: www.LgaAccessEIS.com.

Comments should be addressed to the listed contact person, or by email to comments@lgaaccesseis.com. The Scoping comment period is from May 3, 2019 through June 17, 2019.

The FAA is aware that there may be Native American tribes with a historical interest in the area. The FAA will interact on a government-to-government basis, in accordance with all executive orders, laws, regulations, and other memoranda. The tribes will also be invited to participate in accordance with NEPA and Section 106 of the National Historic Preservation Act.

Issued in Jamaica, New York, April 23, 2019.
Evelyn Martinez,
Manager, New York Airport District Office, Airports Division, Eastern Region.

[FR Doc. 2019-08863 Filed 5-2-19; 8:45 am]

BILLING CODE 4910-13-P